DEPARTMENT OF ENERGY

Federal Energy Regulatory Commission

[Docket No. EL17-30-000]

Notice of Supplement To Petition for Declaratory Order: Nogales Transmission, L.L.C.; Nogales Frontier Operations, L.L.C.

Take notice that on April 25, 2017, pursuant to Rule 207(a)(2) of the Federal Energy Regulatory Commission's (Commission) Rules of Practice and Procedure,¹ Nogales Transmission, L.L.C. and Nogales Frontier Operations, L.L.C. filed a supplement to its petition for declaratory order filed on December 21, 2016, as more fully explained in its supplemented petition.

¹ 18 CFR 385.207(a)(2) (2016).

Any person desiring to intervene or to protest in this proceeding must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 5 copies of the intervention or protest to the Federal Energy Regulatory Commission, 888 First Street NE., Washington, DC 20426.

The filings in the above proceeding are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov.or call (866) 208-3676 (toll free). For TTY, call (202) 502-8659.

Comment Date: 5:00 p.m. Eastern time on May 25, 2017.

Dated: April 26, 2017.
Kimberly D. Bose,
Secretary.

[FR Doc. 2017-08807 Filed 5-1-17; 8:45 am]

BILLING CODE 6717-01-P